DEPARTMENT OF THE INTERIOR

Bureau of Indian Affairs

[212A2100DD/AAK3003100/A0C904040.99990]

Annual Meeting Under Indian Employment, Training and Related Services Act, as Amended

AGENCY: Bureau of Indian Affairs, Interior.

ACTION: Notice of meeting.

SUMMARY: The Department of the Interior, Bureau of Indian Affairs (BIA), is announcing the annual meeting of the Federal agencies and Tribes that participate in the Indian Employment, Training, and Related Services Act of 2017, also known as “Public Law 477” Work Group. For the safety of all individuals, the meeting will be conducted virtually via MS TEAMs and by telephone.

DATES: The annual Federal Partner and Tribal 477 Work Group meeting will be held on Thursday, September 16, 2021 from 12:30 p.m. to 4 p.m. Eastern Daylight Time (EDT).

ADDRESSES: All Work Group activities and meetings will be conducted online and by phone. See the SUPPLEMENTARY INFORMATION section of this notice for directions to join MS TEAMs and by telephone.

FOR FURTHER INFORMATION CONTACT: Jeanette Hanna, Deputy Bureau Director, Indian Services, Bureau of Indian Affairs, Jeanette.Hanna@bia.gov (202) 513-7640.

SUPPLEMENTARY INFORMATION: The annual Federal Partner and Tribal 477 Work Group meeting will be on MS TEAMs video conference and by phone. Call-information as follows:

MS TEAMs: https://outlook.office365.com/calendar/item/AAMkADA0NGQ2YjA4LTI3ZDgtNGNmOS1iMDc0LTgxNzBmYWZkMzgxOQBGAAAAAADJO%2FT7FtupTIPnsmURs6FgBwB5i3zh0RRARbawCO9d77i1AAAAAAENAAB5i3zh0RRARbawCO9d77i1AAJxp9NNAAA%3D

Call in (audio only): (202) 640-1187

Phone Conference Id: 635973133#

Background

In 2017, the Congress enacted the Indian Employment Training and Related Services Consolidation Act of 2017, Public Law 115-93, codified at 25 U.S.C. 3401-3417 (“2017 Act”). The 2017 update amended and expanded the Indian Employment and Related Services Demonstration Act of 1992, Public Law 102-477 (as amended in 2017, “PL 477”) by, in part, identifying 12 Federal agencies that are now subject to the amended law. Under PL 477, Tribes may propose to integrate eligible grant programs from the Departments of the Interior, Agriculture, Commerce, Education, Energy, Health & Human Services, Homeland Security, Housing & Urban Development, Justice, Labor, Transportation, and Veterans Affairs, consolidate and reprogram grant funds in accordance with a single plan, budget, and report approved by the Secretary of the Interior (“477 Plan”). As required by the 2017 updates to PL 477, the Department of the Interior entered into a Memorandum of Agreement (MOA) among the 12 Federal agencies to implement PL 477.

Annual Meeting

As DOI is the lead agency responsible for implementing of PL 477, the BIA, as delegated by the Secretary of the Interior, announces the annual meeting of participating Tribes and Federal agencies. As directed by statute, the meeting will be co-chaired by the Principal Deputy Assistant Secretary—Indian Affairs, Bryan Newland, and the 477 Tribal Workgroup Committee Chair, Margaret Zientek. 25 U.S.C. 3410(a)(3)(B)(i).

The agenda will include:

I. Discussion on Public Law 102-477, as amended

• Status of Memorandum of Agreement

• Recommendation for Changes/Improvements/Areas to be addressed

• Status of Labor Force Report

II. Current Status of Participating Tribes

• 477 Programs to be integrated

• Plan Approval/Denials

• Waiver Approval/Denials

• Funds Transfer

• Annual Reports

• 477 Tribal Recognition

III. Miscellaneous

• Financial Assistance for 477 Tribes to develop a database

• Expansion of Tribal Programs

• Establish 2022 Annual Meeting of participating Tribes and Federal agencies

To join the meeting, use MS TEAMs video or call in by phone:

MS TEAMs: https://outlook.office365.com/calendar/item/AAMkADA0NGQ2YjA4LTI3ZDgtNGNmOS1iMDc0LTgxNzBmYWZkMzgxOQBGAAAAAADJO%2FT7FtupTIPnsmURs6FgBwB5i3zh0RRARbawCO9d77i1AAAAAAENAAB5i3zh0RRARbawCO9d77i1AAJxp9NNAAA%3D

Call in (audio only): (202) 640-1187

Phone Conference Id: 635973133#

Bryan Newland,
Principal Deputy Assistant Secretary, Indian Affairs.

[FR Doc. 2021-19845 Filed 9-14-21; 8:45 am]

BILLING CODE 4337-15-P